NUCLEAR REGULATORY COMMISSION

[Docket No. 030-03754]

Notice of Availability of Environmental Assessment and Finding of No Significant Impact for License Amendment for ABB Prospects, Inc.'s Facility in Windsor, CT

AGENCY: Nuclear Regulatory Commission.

ACTION: Notice of availability of environmental assessment and finding of no significant impact.

FOR FURTHER INFORMATION CONTACT: Randolph C. Ragland, Jr., Division of Nuclear Materials Safety, U.S. Nuclear Regulatory Commission, Region I, 475 Allendale Road, King of Prussia, Pennsylvania 19406; telephone (610) 337-5083; by facsimile transmission to (610) 337-5269; or by e-mail to rcr1@nrc.gov.

SUPPLEMENTARY INFORMATION:

I. Introduction

The U.S. Nuclear Regulatory Commission (NRC) is issuing a license amendment to Material License No. 06-00217-06 issued to ABB Prospects, Inc., to authorize the decommissioning of its CE Windsor facility in Windsor, CT. NRC has prepared an Environmental Assessment (EA) in support of these actions in accordance with the requirements of 10 CFR Part 51. Based on the EA, the NRC has concluded that a Finding of No Significant Impact (FONSI) is appropriate. The amendment will be issued following the publication of this Notice.

II. EA Summary

The purpose of the proposed action is to authorize the decontamination and decommissioning of the ABB Prospects, Inc.'s CE Windsor, CT site to permit release for unrestricted use and termination of NRC License No. 06-00217-06. From the mid-1950s, the Combustion Engineering (CE) Site in Windsor, CT has been involved in research, development, engineering, production, and servicing of nuclear fuel systems, and services. On October 15, 2003, ABB Prospects, Inc. submitted a site-wide Decommissioning Plan (DP) for the CE Windsor, CT facility, and requested NRC to amend NRC License No. 06-00217-06 to incorporate the DP into the license. ABB Prospects, Inc.'s proposed action was previously noticed in the Federal Register on February 6, 2004 (FR Volume 69, Number 25, Pages 5879-5880], along with a notice of an opportunity to request a hearing.

At the completion of remediation, ABB Prospects, Inc. plans to conduct radiological surveys sufficient to demonstrate that the site meets the license termination criteria in Subpart E of 10 CFR Part 20. The NRC staff has prepared an EA in support of the proposed license amendment. NRC evaluated the proposed action, alternatives to the proposed action, the affected environment, radiological impacts to workers and the public from planned decommissioning activities, and planned actions to minimize the impact to the environment.

III. Finding of No Significant Impact

On the basis of the EA, NRC has concluded that there are no significant environmental impacts from the proposed action and has determined not to prepare an environmental impact statement.

IV. Further Information

The EA and the documents related to this proposed action, including the application for the license amendment, the DP, and supporting documentation, are available for inspection at NRC's Public Electronic Reading Room at http://www.nrc.gov/reading-rm/adams.html (ADAMS Accession No. ML040300149. These documents are also available for inspection and copying for a fee at the Region I Office, 475 Allendale Road, King of Prussia, Pennsylvania, 19406. Persons who do not have access to ADAMS, should contact the NRC PDR Reference staff by telephone at 1-800-397-4209 or (301) 415-4737, or by e-mail to pdr@nrc.gov.

Dated at King of Prussia, Pennsylvania, this 21st day of May, 2004.
For the Nuclear Regulatory Commission.
Marie T. Miller,
Chief, Decommissioning Branch, Division of Nuclear Materials Safety, RI.

[FR Doc. 04-12213 Filed 5-28-04; 8:45 am]

BILLING CODE 7590-01-P